DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on April 16, 2007. No comments were received.

DATES: Comments must be submitted on or before August 2, 2007.

FOR FURTHER INFORMATION CONTACT: Jean McKeever, Maritime Administration, 1200 New Jersey Ave., SE., Washington, DC 20590. Telephone: 202-366-5737, FAX: 202-366-5123; or E-Mail: jean.mckeever@dot.gov. Copies of this collection also can be obtained from that office.

SUPPLEMENTARY INFORMATION: Maritime Administration (MARAD).

Title: MARAD Maritime Operator Survey Concerning Mariner Availability.

OMB Control Number: 2133-NEW.

Type of Request: New collection.

Affected Public: Vessel operating companies representing different sectors of the U.S. maritime industry.

Form(s): MA-1048.

Abstract: Part of the stated statutory policy of the Merchant Marine Act, 1936, is to foster the development and maintenance of an adequate U.S.-flag merchant marine manned with trained and efficient citizen personnel. In order to successfully meet this mandate, MARAD must determine whether a current or projected shortage of mariners exists and if there is an operational or business impact on the merchant marine. MARAD believes that a brief preliminary survey is necessary at this time because it has received an abundance of anecdotal information indicating that there is a serious existing and projected mariner shortage in different market sectors. If the preliminary survey indicates that there is a projected shortage that appears to be more than short-term, MARAD will follow-up with a more detailed survey to analyze the shortage and ascertain the best means to address it.

Annual Estimated Burden Hours: 33.34 hours (20 minutes per respondent).

Addressee: Send comments to the Office of Information and Regulatory Affairs, Office of Management and Budget, 725 17th Street, NW., Washington, DC 20503, Attention MARAD Desk Officer.

Comments Are Invited On: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology. A comment to OMB is best assured of having its full effect if OMB receives it within 30 days of publication.

(Authority: 49 CFR 1.66.)

Issued in Washington, DC on June 25, 2007.
Daron T. Threet,
Secretary, Maritime Administration.

[FR Doc. E7-12791 Filed 7-2-07; 8:45 am]

BILLING CODE 4910-81-P